DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new application for special permits to facilitate processing.

DATES: Comments must be received on or before March 31, 2009.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for modification of special permit is published in accordance with Part 107 of the Federal hazardous materials transportation law (49 U.S.C. 5 117(b); 49 CFR 1.53(b)).

Issued in Washington, DC, on March 05, 2009.
Delmer F. Billings,
Director, Office of Hazardous Materials, Special Permits and Approvals.

Application number | Docket number | Applicant | Regulation(s) affected | Nature of special permits thereof
6614-M |  | Auto-Chlor System, Memphis, TN | 49 CFR 173.202; 173.203 | To modify the special permit to authorize additional marking procedures.
9157-M |  | Matheson Tn-Gas, Basking Ridge, NJ | 49 CFR 173.314(c); 179.300-7 | To modify the special permit to authorize the transportation in commerce of Division 2.1 and Class 3 hazardous materials.
11379-M |  | TRW Occupant Safety Systems, Washington, MI | 49 CFR 173.301(h), 173.302 | To modify the special permit to authorize the transportation in commerce of an additional Class 9 hazardous material.
11725-M |  | ATK Space Systems Inc., Beltsville, MD | 49 CFR 173.34(d); 173.40; 173.301; 173.302(a); 173.304(a)(2); 175.3 | To modify the special permit to authorize the transportation in commerce of an additional Class 9 hazardous material and to remove motor vehicle as a mode of transportation.
13318-M |  | Worthington Cylinders—Wisconsin LLC, Chilton, WI | 49 CFR 173.301; 177.840 | To modify the special permit to authorize the transportation in commerce of additional Division 2.1 hazardous materials.
14384-M |  | Matheson Tn-Gas, Basking Ridge, NJ | 49 CFR 173.301(f)(1) | To modify the special permit to authorize the transportation in commerce of Division 2.1 hazardous materials.
14784-M |  | Weldship Corporation, Bethlehem, PA | 49 CFR 180.209(a) and (b) | To modify the special permit to authorize additional Division 2.1 and 2.2 gases and authorize the maximum acceptance flaw size for DOT 3T specification cylinders used for Silane service.

[FR Doc. E9-5508 Filed 3-13-09; 8:45 am]

BILLING CODE 4909-60-M